AGENCY FOR INTERNATIONAL DEVELOPMENT

Notice of Public Information Collection Requirements Submitted to OMB for Review

SUMMARY: U.S. Agency for International Development (USAID) has submitted the following information collection to OMB for review and clearance under the Paperwork Reduction Act of 1995, Public Law 104-13. Comments regarding this information collection are best assured of having their full effect if received within 30 days of this notification. Comments should be addressed to: Desk Officer for USAID, Office of Information and Regulatory Affairs, Office of Management and Budget (OMB), Washington, DC 20503 or be sent via email to OIRA_Submission@omb.eop.crov.

SUPPLEMENTARY INFORMATION:

OMB Number: OMB 0412-XXXX.

Form Number: AID Form 309-1.

Title: Contract With an Individual for Personal Services.

Type of Submission: A Revised Information Collection.

Purpose: United States Agency for International Development must collect information for reporting purposes to Congress and Office of Acquisition and Assistance Contract Administration. This collection is to collect personal information on applicants for USAID personal services contracts and is used to award a personal services contract with required signatures.

Annual Reporting Burden:

Respondents: 550.

Total annual responses: 550.

Total annual hours requested: 137.50 hr.

Dated: October 1, 2016.
Lynn P. Winston,
Chief, Bureau for Management, Office of Management Services, Information and Records Division, U.S. Agency for International Development.

[FR Doc. 2016-24853 Filed 10-14-16; 8:45 am]

BILLING CODE 6116-01-M